NUCLEAR REGULATORY COMMISSION

[NRC-2009-0189]

Office of New Reactors: Interim Staff Guidance on Assessing the Consequences of an Accidental Release of Radioactive Materials From Liquid Waste Tanks; Reopening of Comment Period

AGENCY: Nuclear Regulatory Commission (NRC).

ACTION: Reopening of comment period.

SUMMARY: The NRC published a request for public comment in the Federal Register on May 4, 2009, on proposed Interim Staff Guidance (ISG) DC/COL-ISG-013, “Assessing the Consequences of an Accidental Release of Radioactive Materials from Liquid Waste Tanks” (Agencywide Documents Access and Management System (ADAMS) Accession No. ML090830488). The NRC has completed a related ISG, DC/COL-ISG-014, “Assessing Ground Water Flow and Transport of Accidental Radionuclide Releases,” and is making it available for public comment by separate document published today in the Federal Register. The NRC believes that the public will be better served by being able to review and comment on both documents at this time. This action is necessary to reopen the comment period for ISG DC/COL-ISG-013.

ADDRESSES: Please include Docket ID NRC-2009-0189 in the subject line of your comments. Comments submitted in writing or in electronic form will be posted on the NRC Web site and on the Federal rulemaking Web site Regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

You may submit comments by any one of the following methods:

Federal Rulemaking Web site: Go to http://www.regulations.gov and search for documents filed under Docket ID NRC-2009-0189. Comments may be submitted electronically through this Web site. Address questions about NRC dockets to Carol Gallagher at 301-492-3668; e-mail at Carol.Gallagher@nrc.gov.

Mail comments to: Michael T. Lesar, Chief, Rulemaking and Directives Branch (RDB), Division of Administrative Services, Office of Administration, Mail Stop: TWB-05-B01M, U.S. Nuclear Regulatory Commission, Washington, DC 20555-0001, or by fax to RDB at 301-492-3446.

You can access publicly available documents related to this notice using the following methods:

NRC's Public Document Room (PDR): The public may examine and have copied for a fee publicly available documents at the NRC's PDR, Public File Area O1 F21, One White Flint North, 11555 Rockville Pike, Rockville, Maryland.

NRC's Agencywide Documents Access and Management System (ADAMS): Publicly available documents created or received at the NRC are available electronically at the NRC's Electronic Reading Room at http://www.nrc.gov/reading-rm/adams.html. From this page, the public can gain entry into ADAMS, which provides text and image files of NRC's public documents. If you do not have access to ADAMS or if there are problems in accessing the documents located in ADAMS, contact the NRC's PDR reference staff at 1-800-397-4209, 301-415-4737, or by e-mail to pdr.resource@nrc.gov.

Federal Rulemaking Web site: Public comments and supporting materials related to this notice can be found at http://www.regulations.gov by searching on Docket ID: NRC-2009-0189.

FOR FURTHER INFORMATION CONTACT: Mr. Edward H. Roach, Acting Chief, Health Physics Branch, Division of Construction Inspection and Operational Programs, Office of New Reactors, U.S. Nuclear Regulatory Commission, Washington, DC, 20555-0001; telephone at 301-415-1973 or e-mail at edward.roach@nrc.gov.

SUPPLEMENTARY INFORMATION: The NRC requested public comment on May 4, 2009 (74 FR 20510), on its Proposed Interim Staff Guidance (ISG) DC/COL-ISG-013 (ADAMS Accession No. ML090830488). The purpose of this ISG is to modify and provide Combined License (COL) and Design Certification (DC) applicants additional clarity and guidance for the application of Standard Review Plan (SRP) Sections 11.2 and 2.4.13 on the characterization of hydro geological properties of a site associated with the effects of accidental releases of radioactive liquid on existing or likely future uses of ground and surface water resources in meeting the requirements of Title 10 of the Code of Federal Regulations, Part 100 (10 CFR 100.10 or 100.20) and Appendix B to 10 CFR part 20 on effluent concentration limits. This ISG would revise the staff guidance previously issued in March 2007 in the SRP NUREG-0080, “Standard Review Plan for the Review of Safety Analysis Reports for Nuclear Power Plants,” Sections 11.2 and 2.4.13. These two SRP sections are not internally consistent in identifying acceptable criteria for assessing the consequences of accidental releases of radioactive materials, or in providing guidance to the staff and applicants to establish conditions for such releases and define acceptable assumptions to describe exposure scenarios and pathways to members of the public. The NRC staff issues DC/COL-ISGs to facilitate timely implementation of current staff guidance and to facilitate activities associated with review of applications for DCs and COLs by the Office of New Reactors. The NRC staff will also incorporate the approved DC/COL-ISG-013 into the next revision of the SRP and related guidance documents.

The NRC staff is issuing this notice to reopen the public comment period for proposed DC/COL-ISG-013. After the NRC staff considers all public comments, it will make a determination regarding proposed DC/COL-ISG-013. The agency posts its issued staff guidance on the agency's Web site at http://www.nrc.gov/reading-rm/doc-collections/isg/.

Dated at Rockville, Maryland, this 16th day of February 2010.
For the Nuclear Regulatory Commission,
William F. Burton,
Chief, Rulemaking and Guidance Development Branch, Division of New Reactor Licensing, Office of New Reactors.

[FR Doc. 2010-3676 Filed 2-23-10; 8:45 am]

BILLING CODE 7590-01-P